DEPARTMENT OF THE INTERIOR

Bureau of Indian Affairs

Notice of Intent To Prepare an Environmental Impact Statement for the Proposed Elk Valley Rancheria 203.5 Acre Fee-to-Trust Transfer and Casino/Resort Project, Del Norte County, CA

AGENCY: Bureau of Indian Affairs, Interior.

ACTION: Notice.

SUMMARY: This notice advises the public that the Bureau of Indian Affairs (BIA), with the cooperation of the Elk Valley Rancheria, intends to gather information necessary for preparing an Environmental Impact Statement (EIS) for the proposed 203.50 acre Fee-to-Trust Transfer and Casino Project in Del Norte County, California. The purpose of the proposed action is to help meet the land base and economic needs of the Elk Valley Rancheria. This notice also announces a public scoping meeting to identify potential issues, topics and alternatives for consideration in the EIS.

DATES: Written comments must arrive by December 30, 2003. The public scoping meeting will be held on December 15, 2003, from 5 p.m. to 8 p.m., or until the last public comment is received.

ADDRESSES: You may mail or hand carry written comments on the scope of the EIS to Clay Gregory, Acting Regional Director, Bureau of Indian Affairs, Pacific Region, 2800 Cottage Way, Room W-2820, Sacramento, California 95825. Please include your name, return address and the caption, “DEIS Scoping Comments, Elk Valley Rancheria, Martin Ranch, Fee to Trust Casino Project 203.50 Acre Fee-to-Trust Casino Project, Del Norte County, California,” on the first page of your written comments.

The public scoping meeting will be held at the Elk Valley Tribal Center, 2332 Howland Hill Road, Crescent City, California 95531.

FOR FURTHER INFORMATION CONTACT: William Allan, (916) 978-6043.

SUPPLEMENTARY INFORMATION: The Elk Valley Rancheria is located just east of Crescent City, California, on Howland Hill Road. The project area, known locally as the Martin Ranch, is located southeast of Crescent City, adjacent to Highway 101 and Humboldt Road.

The Elk Valley Rancheria proposes that 203.50 acres of land that is currently owned by the tribe in fee title be taken into federal trust, and that the site be developed for recreation/tourism by constructing a golf course, hotel, conference facilities and casino for the benefit of the tribe and the local community. The project site is currently undeveloped, with the exception of a single-family residence and its associated barn and outbuildings. The BIA will serve as the lead agency for National Environmental Policy Act compliance.

Public Comment Availability

Comments, including names and addresses of respondents, will be available for public review at the mailing address shown in the ADDRESSES section, during regular business hours, 8 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality Regulations (40 CFR, parts 1500 through 1508) implementing the procedural requirements of the National Environmental Policy Act of 1969, as amended (42 U.S.C. 4321 et seq.), and the Department of the Interior Manual (516 DM 1-6), and is in the exercise of authority delegated to the Assistant Secretary—Indian Affairs by 209 DM 8.

Dated: November 12, 2003.
Aurene M. Martin,
Principal Deputy Assistant Secretary—Indian Affairs.

[FR Doc. 03-29088 Filed 11-20-03; 8:45 am]

BILLING CODE 4310-W7-P